DEPARTMENT OF COMMERCE

International Trade Administration

Transportation Infrastructure/Multimodal Products and Services Trade Mission to Doha, Qatar, and Abu Dhabi and Dubai, United Arab Emirates

AGENCY: International Trade Administration, Department of Commerce.

ACTION: Notice.

Mission Description

The U.S. Department of Commerce, International Trade Administration, U.S. Commercial Service is organizing a senior executive-led trade mission for multi-modal transportation and infrastructure development products and services to Doha, Qatar and Abu Dhabi and Dubai, United Arab Emirates (U.A.E) on October 29-November 3, 2011. The mission is designed to contribute to President Obama's National Export Initiative, which aims to double U.S. exports by 2015 while supporting two million American jobs, by increasing exports of products and services that contribute to infrastructure development projects in Qatar and U.A.E.

The mission will help U.S. companies already doing business in Qatar or the U.A.E. increase their current level of exports and exposure, and will help experienced U.S. exporters, which have not yet done business in Qatar or the U.A.E. enter these markets in support of job creation in the United States. Participating firms will gain market information, connect with key business and government decision makers, solidify business strategies, and/or advance specific projects. In each of these important sectors, participating U.S. companies will meet with prescreened potential partners, agents, distributors, representatives, and licensees. The agenda will also include meetings with high-level national and local government officials, networking opportunities, country briefings, and seminars.

The industry sectors for this mission will include, but are not limited to: multimodal freight transportation systems, products and technologies, including port development, airport development, freight rail systems and technologies, supply chain systems and strategies; mass transportation systems; advanced vehicle technologies and intelligent transportation systems and related services and software; and other relevant products and services.

The delegation will be composed of 15 qualified U.S. firms representing the industry sectors noted above. Representatives of the U.S. Department of Transportation and the Export-Import Bank of the United States (Ex-Im) will be invited to participate (as appropriate) to provide information and counseling on their programs as they relate to the markets in Qatar and the U.A.E.

Commercial Setting

Qatar

The United States continues to be the largest exporter to Qatar, accounting for 14% of the total import market. U.S. exports have surged by 495 percent, from $454 million in 2003 to $2.7 billion in 2009. Qatar is the fifth largest U.S. export destination in the Middle East, making it an important market for U.S. small and medium-sized businesses.

Qatar is one of the richest countries per capita in the world, with GDP per capita valued at $90,000. In 2010, total GDP was valued at $128 billion. The IMF predicts that Qatar will grow by 20% in 2011. The World Bank announced that Qatar is the most economically competitive in the Middle East. Taken together, this has led foreign firms to increase their investment in Qatar's infrastructure, making it one of the most prosperous markets in the Middle East.

Qatar's success in winning the 2022 World Cup Nation Host opens up a constellation of opportunities for U.S. business. The country plans to spend up to $100 billion in infrastructure projects between now and the World Cup in 2022, including roads, bridges, highways, railways, ports, and related consultancy services. Qatar's transportation infrastructure also benefits significantly with respect to Qatar's current domestic growth environment. Its road transportation structure has been operating at capacity, with a strong need to expand the system. Currently, road infrastructure is the only mode of transportation, which is one of the major causes for heavy congestion throughout the country. There are excellent opportunities for U.S. engineers, program management firms, and manufacturers to contribute to the creation of new transport infrastructure projects (i.e., railways, roads, ports, bridges, and highways), along with improved traffic safety systems.

The Prime Minister, Sheikh Hamad bin Jassim, has stated that a significant share of Qatar's budget will be for infrastructure development, and it will be completely self-financed. As much as 30% of the budget is reportedly earmarked for infrastructure upgrades, such as the New Doha International Airport, New Doha Seaport, the Doha Expressway Project, roads, and related program management services. The country continues to maintain high levels of capital spending on major projects, which will reach $12 billion in 2010-2011 compared with $10.4 billion in 2009-2010, representing a 15% year-on-year increase.

U.A.E.

The U.A.E. is the largest U.S. export market in the Middle East/North Africa region, the second largest economy in the region, and presents qualified American companies with opportunities to expand their products and services to a fast growing market. The U.A.E. is the logistics and business services hub for the wider region. The 2009 GDP for the U.A.E. was $231.3 billion and the 2009 per capita income was $42,000. Despite the recent global financial crisis, the United States and the U.A.E. have continued their long-term trade and investment relationship. Exports between both countries have increased almost every year since 1971, when the U.A.E. was established.

The United States exported over $12 billion worth of products to the U.A.E. in 2009, representing a 237 percent increase since 2002. The United States is the third largest exporter to the U.A.E. and enjoys a very large trade surplus and a strong trading and investment relationship. The U.A.E. is among the Middle East region's leaders in terms of openness to international trade and investment and political stability. It has successfully developed itself into the largest logistics hub in the wider region, with the second-largest man-made port in the world at Jebel Ali, and the fourth busiest airport in the world. It is making major investments in infrastructure and economic diversification, resulting in significant export opportunities for U.S. firms. The U.A.E is developing key transportation infrastructure projects including: Port Khalifa and industrial zone at Taweelah; the new $8 billion Union Railway project; the $6.7 billion expansion of Abu Dhabi International Airport; the construction of the new Maktoum Airport, which will eventually have five runways; and public transportation systems, such as the expansion of the Dubai metro and the construction of the Abu Dhabi metro and light rail. The goods, services and know-how necessary for the construction and profitable operation of these new systems, particularly those related to multi-modal freight and intelligent supply chain management, provides significant business opportunities in areas where U.S. companies excel. U.S. products enjoy favorable tariffs that generally do not exceed five percent.¹

¹ World Trade Organization: Latest Available MFN Applied Tariffs At HS 6 (2007).

Other Products and Services

The foregoing analysis of export opportunities in Qatar and the U.A.E. is not intended to be exhaustive, but illustrative of the many opportunities in these markets available to U.S. businesses. Other products and services that contribute to the energy and infrastructure development of Qatar and the U.A.E. also may have great potential. Applications from companies selling products and services within the scope of this mission, but not specifically identified in this Mission Statement, will be considered and evaluated by the U.S. Department of Commerce. Companies whose products do not fit the scope of the mission may contact their local U.S. Export Assistance Center (USEAC) to learn about other trade missions and services that may provide more targeted export opportunities. Companies may call 1-800-872-8723, or e-mail: tic@trade.gov to obtain such information. This information also may be found on the Department's Web site: http://www.export.gov.

Mission Goals

This Business Development Mission will demonstrate the United States' commitment to a sustained economic engagement with Qatar and the U.A.E. The mission will combine policy dialogue and business development for U.S. firms. Additionally, the mission will advance the Administration's goal to broaden and deepen the U.S. exporter base and support the President's National Export Initiative by providing individual participants with business opportunities to achieve export success in these markets.

In support of these goals, the mission's purpose is to support participants as they construct a firm foundation for future business in Qatar and the U.A.E., and specifically aims to:

• Provide participants with market information about the local infrastructure that will contribute to increasing U.S. exports to the Qatari and U.A.E. markets.

• Assist in identifying potential end-users and partners (including potential agents, distributors, and licensee partners) and business strategies for U.S. companies to gain access to the Qatari and U.A.E. markets.

• Provide an opportunity to participate in policy and regulatory framework discussions with Qatari and U.A.E. government officials and private sector representatives to advance U.S. market access interests in these markets.

• Confirm U.S. Government support for U.S. business activities in Qatar and the U.A.E. and to provide access to senior government decision makers from Qatar and U.A.E.

Mission Scenario

During the mission to Qatar and the U.A.E., the participants will:

• Meet with high-level Qatari and Emirati government officials.

• Meet with prescreened potential partners, agents, distributors, representatives and licensees.

• Meet with representatives of the Chambers of Commerce, industry and trade associations.

• Attend briefings conducted by Embassy officials on the economic and commercial climates.

Receptions and other business events will be organized to provide mission participants with additional opportunities to speak with local business and government representatives, as well as U.S. business executives living and working in the region.

Proposed Timetable

The mission program will begin at 5:00 pm, Saturday, October 29, 2011 and run through the evening of Thursday, November 3, 2011. Participants are encouraged to arrive on or before October 29, 2011.

Saturday, October 29 (weekend) | Doha, Qatar. No-Host Welcome Dinner.
Sunday October 30 | Doha, Qatar. Market Briefing by U.S. Embassy Officials. Meetings with Senior Qatari Government Officials. Business Event/Briefing with Local Industry Representatives. Networking Reception.
Monday, October 31 | Doha, Qatar. One-on-One Business Meetings for the Delegation.
| Evening Travel to Abu Dhabi, UAE.
Tuesday, November 1 | Abu Dhabi, UAE. Market Briefing by U.S. Embassy Officials. Meetings with Senior UAE and Abu Dhabi Government Officials. Business Event/Briefing with Local Industry Representatives. One-on-One Business Meetings for the Delegation. Networking reception.
Wednesday, November 2 | Abu Dhabi, UAE. One-on-one business matchmaking appointments. Travel to Dubai Dubai, UAE. Networking reception.
Thursday, November 3 | Dubai, UAE. Meetings with Senior Dubai Government Officials. Business Event/Briefing with Local Industry Representatives. One-on-One Business Meetings for the Delegation. Closing Dinner.

Participation Requirements

All parties interested in participating in the Business Development Mission to Qatar and the U.A.E. must complete and timely submit an application package for consideration by the U.S. Department of Commerce. All applicants will be evaluated on their ability to meet certain conditions and best satisfy the selection criteria as outlined below. The mission is designed to select a a maximum of 15 companies to participate in the mission from the applicant pool. U.S. companies already doing business in the target markets, as well as U.S. companies seeking to enter these markets for the first time, are encouraged to apply.

Fees and Expenses

After a company has been selected to participate on the mission, a payment to the Department of Commerce in the form of a participation fee is required. The participation fee will be $4259 for large firms and $3707 for a small or medium-sized enterprise (SME),² which will cover the principal (one) representative. The fee for each additional firm representative (large firm or SME) is $800. Local transportation, including transport between mission cities, is included in the participation fee.

² An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Expenses for travel, lodging, some meals, and incidentals will be the responsibility of each mission participant. Air transportation from the United States (or point of origin) to Qatar and return to the United States is the responsibility of the participant. Business visas may be required. Government fees and processing expenses to obtain such visas are also not included in the mission costs. However, the U.S. Department of Commerce will provide instructions to each participant on the procedures required to obtain necessary business visas.

Conditions for Participation

An applicant must timely submit a completed and signed mission application and supplemental application materials, including adequate information on the company's products and/or services, primary market objectives, and goals for participation. If the U.S. Department of Commerce receives an incomplete application, the Department may reject the application, request additional information, or take the lack of information into account when evaluating the applications.

Selection Criteria for Participation

Selection will be based on the following criteria in decreasing order of importance:

• Consistency of a company's products or services with the scope and desired outcome of the mission's goals;

• Suitability of a company's products or services to the Qatari and U.A.E. markets and the likelihood of a participating company's increased exports to or business interests in these markets as a result of this mission;

• Demonstrated export experience in Qatar, the U.A.E., or other foreign markets; Additional factors, such as diversity of company size, type, location, and demographics, may also be considered during the review process.

Referrals from political organizations and any documents, including the application, containing references to partisan political activities (including political contributions) will be removed from an applicant's submission and not considered during the selection process.

Selection Timeline

Mission recruitment will be conducted in an open and public manner, including publication in the Federal Register, posting on the Commerce Department trade mission calendar— http://www.trade.gov/trade-missions/—and other Internet Web sites, press releases to general and trade media, direct mail, broadcast fax, notices by industry trade associations and other multiplier groups, and publicity at industry meetings, symposia, conferences, and trade shows.

The Commerce Department's Office of Business Liaison and the International Trade Administration will explore and welcome outreach assistance from other interested organizations, including other U.S. government agencies.

Applications can be completed on-line at the Qatar and U.A.E. Business Development Mission Web site at http://www.trade.gov/QatarUAEMission2011 or can be obtained by contacting Jessica Arnold (202-482-1856/qataruaemission2011@trade.gov). The application deadline is Monday, July 15th, 2011, unless extended by the Department of Commerce. Applications received after Monday, July 15th, 2011, will be considered only if space and scheduling constraints permit.

Contacts

U.S. Commercial Service Domestic Contact:

Ms. Jessica Arnold,

Phone: (202) 482-2026/Fax: (202) 482-1900,

E-mail: QatarUAEMission2011@trade.gov.

U.S. Commercial Service Qatar Contact:

Mr. Dao Le,

U.S. Commercial Service, Doha, Qatar,

Tel: 011-974-488-4101/Fax: 011-974-488-4163,

E-mail: Dao.Le@trade.gov.

U.S. Commercial Service U.A.E. Contact:

Ms. Laurie Farris,

U.S. Commercial Service, Abu Dhabi, UAE,

Phone: 011-971-2-414-2665/Fax: 011-971-2-414-2228,

E-mail: Laurie.Farris@trade.gov.

Elnora Moye,
U.S. Department of Commerce, Commercial Service Trade Mission Program, Tel: 202-482-4204, E-mail: elnora.moye@trade.gov.

[FR Doc. 2011-16549 Filed 6-30-11; 8:45 am]

BILLING CODE 3510-FP-P